DEPARTMENT OF COMMERCE

National Telecommunications and Information Administration

Agency Information Collection Activities, Submission for Office of Management and Budget (OMB) Review and Emergency Approval; Comment Request; Infrastructure Investment and Jobs Act—Application for Broadband Grant Programs

The Department of Commerce will submit the following information collection request to the Office of Management and Budget (OMB) for emergency review and approval in accordance with the Paperwork Reduction Act of 1995, on or after the date of publication of this notice. We invite the general public and other Federal agencies to comment on proposed, and continuing information collections, which helps us assess the impact of our information collection requirements and minimize the public's reporting burden.

Agency: National Telecommunications and Information Administration (NTIA), Commerce.

Title: Infrastructure Investment and Jobs Act—Application for Broadband Grant Programs.

OMB Control Number: 0660-XXXX.

Form Number(s): N/A.

Type of Request: Emergency submission, New Information Collection Request.

Number of Respondents: 950 respondents.

Average Hours per Response: 14 hours for Middle Mile grant application and 4 hours for the State Equity Planning program application.

Burden Hours: 10,300 hours.

Needs and Uses: NTIA requests emergency review and approval of the emergency collection to ensure that the agency can meet the statutory deadlines Congress set forth for the Infrastructure Act Broadband Grant Programs. Given the challenges that the grant application process can pose for disadvantaged communities, NTIA seeks to make this process more equitable for all of its potential applicants for the broadband grant programs enacted in the Infrastructure Act, including those with limited resources and/or technical expertise. In order to do so, NTIA created new forms for use in the application process which will provide structured questions and guidance concerning the kind of discrete and structured data required for successful applications. The new forms will create greater efficiencies in the NTIA grant program, which will likely result in enhanced timing and information accuracy beneficial to program applicants. NTIA believes that a significant number of these prospective applicants will be Tribal governments or other entities associated with disadvantaged communities. NTIA further believes that the above-discussed new forms will offer these applicants greater opportunities for meaningful participation in the Broadband programs than they would otherwise enjoy while lessening overall application review burdens.

Affected Public: Entities applying for Infrastructure Act Broadband Grant Program funding.

Frequency: Once per application.

Respondent's Obligation: Mandatory for entities applying for Infrastructure Act Broadband Grant Program funding.

Legal Authority: Infrastructure Investment and Jobs Act (Infrastructure Act), 2021, Public Law 117-58, 135 Stat. 429.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Chief Information Officer, Commerce Department.

[FR Doc. 2022-08919 Filed 4-26-22; 8:45 am]

BILLING CODE 3510-60-P